DEPARTMENT OF COMMERCE

International Trade Administration

[A-351-804, A-427-009, A-428-803, A-580-805, A-588-812, and A-570-802]

Industrial Nitrocellulose From Brazil, France, Germany, Korea, Japan, the People's Republic of China, and the United Kingdom: Notice of Preliminary Results of Changed Circumstances Review and Intent To Revoke Antidumping Duty Orders

AGENCY: Import Administration, International Trade Administration, Department of Commerce.

ACTION: Notice of preliminary results of changed circumstances reviews and intent to revoke antidumping duty orders.

SUMMARY: The Department of Commerce is conducting changed circumstances reviews of the antidumping orders of industrial nitrocellulose from Brazil, France, Germany, Korea, Japan, the People's Republic of China, and the United Kingdom. The preliminary results of these reviews indicate that Green Tree Chemical Technologies (Green Tree), the sole U.S. producer of industrial nitrocellulose in the United States, has ceased production. Consequently, we have preliminarily determined to revoke the orders of industrial nitrocellulose from Brazil, Germany, Korea, Japan, the People's Republic of China, and the United Kingdom on July 1, 2003, which is the earliest date for which there are entries which have been subject to these administrative reviews. We have preliminarily determined to revoke the orders of industrial nitrocellulose from France effective August 1, 2003, which is the earliest date for which there are entries subject to that administrative review.

Interested parties are invited to comment on these preliminary results.

DATES: Effective Date: June 17, 2004.

FOR FURTHER INFORMATION CONTACT: Michael J. Heaney or Robert James, AD/CVD Enforcement Group III, Import Administration, International Trade Administration, U.S. Department of Commerce, 14th Street and Constitution Avenue, NW., Washington, DC 20230; telephone: (202) 482-4475 or (202) 482-0649, respectively.

SUPPLEMENTARY INFORMATION:

Background

On December 31, 2003, Nitro Quimica Brasileira (Nitro Quimica), requested that the Department revoke the antidumping duty order on industrial nitrocellulose from Brazil through a changed circumstances review. According to Nitro Quimica, revocation is warranted because of “lack of interest” on behalf of the U.S. industry. Specifically, Nitro Quimica asserts that no domestic producer of industrial nitrocellulose currently exists. Nitro Quimica contends that Hercules Incorporated, the only petitioner in the original investigation and the only U.S. producer at the time in which this order was issued, sold its nitrocellulose business to Green Tree on June 16, 2001. Nitro Quimica further contends that Green Tree closed its U.S. production facility on or about November 26, 2003. (See Nitro Quimica December 31, 2003 letter at Attachment 3.)

On February 12, 2004, Wolff Cellulosics GmbH (Wolff) asserted that the Department should revoke the order of industrial nitrocellulose from Germany because there is no U.S. producer of industrial nitrocellulose. Wolff argued that the Department should make revocation of the order of industrial nitrocellulose from Germany effective July 1, 2003, which is earliest date for which there are entries that have not yet been the subject of a completed administrative review. Wolff contended that Green Tree, the sole producer of the domestic like product, has ceased production and no longer maintains the capacity to produce industrial nitrocellulose. (See Wolff's February 12, 2004 letter at Exhibits A and B.) On February 25, 2004, the Department initiated a changed circumstances review with respect to the order of industrial nitrocellulose from Brazil (69 FR 8626, February 25, 2004).

On March 9, 2004, the Valspar Corporation (Valspar) requested that the Department revoke the antidumping duty orders on industrial nitrocellulose from France, Germany, Korea, Japan, the People's Republic of China, and the United Kingdom. Valspar asserts that cessation of production of the domestic like product constitutes “lack of interest” by the domestic industry in the continuation of the antidumping duty orders. (See Valspar's March 9, 2004 letter, at pages 1-2.)

On March 23, 2004, Bergerac N.C. and its affiliated U.S. importer SNPF North America, L.L.C. (collectively BNC) requested that the Department revoke the order on industrial nitrocellulose from France. BNC asserts that the cessation of production of the domestic like product constitutes “lack of interest” by the domestic industry in the order of industrial nitrocellulose from France.

On March 29, 2004, the Department initiated changed circumstances reviews of the antidumping orders of industrial nitrocellulose from France, Germany, Korea, Japan, the People's Republic of China, and the United Kingdom (69 FR 17643, April 5, 2004). On April 23, 2004, Wolff filed additional comments supporting its request for revocation of the order of industrial nitrocellulose from Germany.

On May 3, 2004, counsel for petitioner informed the Department that (1) Green Tree had located no buyer for its nitrocellulose production facility, (2) Green Tree did not anticipate finding such a buyer within the foreseeable future, and (3) Green Tree did not anticipate that either Green Tree or a successor-in-interest to Green Tree would resume production of industrial nitrocellulose within a determinable time frame. Accordingly, Green Tree acknowledged that it is no longer in a position to oppose revocation of the antidumping orders of industrial nitrocellulose from Brazil, France, Germany, Korea, Japan, the PRC, and United Kingdom. (See May 3, 2004 memorandum from Michael J. Heaney to the File.)

Based upon the information provided in Nitro Quimica's December 31, 2003 letter, Wolff's February 12, 2004 letter, Valspar's March 9, 2004 letter, and by counsel for Green Tree to the Department on May 3, 2004, the Department has preliminarily determined that changed circumstances exist which warrant revocation of the orders on industrial nitrocellulose from Brazil, France, Germany, Korea, Japan, the People's Republic of China, and the United Kingdom. If these preliminary results are confirmed in the final results of review, the Department intends to revoke the orders of industrial nitrocellulose from Brazil, Germany, Korea, Japan, the People's Republic of China, and the United Kingdom effective July 1, 2003. The Department further intends to revoke the order of industrial nitrocellulose from France effective August 1, 2003.

Scope of the Review

The product covered by this review is industrial nitrocellulose, currently classifiable under HTS subheading 3912.20.00. The HTS item number is provided for convenience and Customs purposes. The written description remains dispositive as to the scope of the product coverage.

Industrial nitrocellulose is a dry, white, amorphous synthetic chemical with a nitrogen content between 10.8 and 12.2 percent. Industrial nitrocellulose is used as a film-former in coatings, lacquers, furniture finishes, and printing inks. The scope of this order does not include explosive grade nitrocellulose, which has a nitrogen content of greater than 12.2 percent.

Preliminary Results of Changed Circumstances Antidumping Duty Administrative Reviews

We have examined the information provided by Nitro Quimica, Wolff, Valspar, and counsel for Green Tree, and preliminarily determine that the sole U.S. producer of industrial nitrocellulose lacks interest in the relief provided by the orders, and thus, sufficient changed circumstances exist to warrant revocation of the orders. Pursuant to section 782(h)(2) of the Act, the Department may revoke an antidumping or countervailing duty order if it determines that producers accounting for substantially all production of the domestic like product have expressed a lack of interest in the order. Pursuant to Section 751(b)(1) of the Act and Section 351.222(g) of the regulations, the Department will conduct a changed circumstances review, and may revoke an order (in whole or in part), if it determines that producers accounting for substantially all of the production of the domestic like product to which the order (or the part of the order to be revoked) pertains have expressed a lack of interest in the relief provided by the order, in whole or in part, or if other changed circumstances exist sufficient to warrant revocation. The Department's practice in cases where the only U.S. producers have ceased production is to make the date of the revocation effective with respect to any entries that have not yet been subject to an administrative review. See, e.g., Coumarin from the People's Republic of China: Notice of Final Results of Changed Circumstances Review and Revocation of the Antidumping Order (69 FR 24122, May 3, 2004), Carbon-Quality Steel Plate Products from Japan: Notice of Final Results of Changed Circumstances Antidumping Administrative Review, and Determination to Revoke in Part (68 FR 9975, March 3, 2003), Large Newspaper Printing Presses and Components Thereof, Whether Assembled or Unassembled, from Germany: Notice of Final Results of Changed Circumstances Review, Revocation of the Antidumping Order, and Rescission of Administrative Reviews (67 FR 19551, April 22, 2002), and Calcium Aluminate Flux from France: Notice of Final Results of Changed Circumstances Antidumping Duty Administrative Review, Revocation of the Order, and Rescission of Antidumping Duty Review, 63 FR 16966 (April 7, 1998). Based upon the foregoing, we preliminarily intend to revoke the antidumping orders on industrial nitrocellulose from Brazil, Germany, Korea, Japan, the People's Republic of China, and the United Kingdom effective July 1, 2003. The Department further intends to preliminarily revoke the order of industrial nitrocellulose from France effective August 1, 2003. ( For the orders on industrial nitrocellulose from Brazil, Germany, Korea, Japan, the People's Republic of China, and the United Kingdom, July 1, 2003 is the earliest date with respect to which there are no entries subject to a completed administrative review. August 1, 2003 is the earliest date with respect to which there are no entries subject to a completed administrative review for industrial nitrocellulose from France.)

Interested parties may submit case briefs and/or written case briefs no later than 30 days after publication of these preliminary results. Rebuttal briefs and rebuttals to written comments, limited to issues raised in such briefs or comments, may be filed no later than 5 days after the deadline for filing case briefs. The Department will publish the final results of this changed circumstances review, which will include the results of its analysis to raised in issues raised in any such written comments, no later than four months following the date of publication of this notice. Also, if our final results do not differ from our preliminary results with respect to revocation, in accordance with 19 CFR 351.222, we will instruct the U.S. Customs and Border Protection to terminate the suspension of liquidation and to liquidate without regard to antidumping duties all entries of industrial nitrocellulose from Brazil, Germany, Korea, Japan, the People's Republic of China, and the United Kingdom effective July 1, 2003, and all entires of industrial nitrocellulose from France effective August 1, 2003. This notice and intent to revoke are in accordance with section 751(b) of the Tariff Act of 1930, as amended (19 U.S.C. 1675(b)(1)), and 19 CFR 351.216, 351.221, and 351.222.

Dated: June 4, 2004.
James J. Jochum,
Assistant Secretary for Import Administration.

[FR Doc. 04-13713 Filed 6-16-04; 8:45 am]

BILLING CODE 3510-DS-P